DEPARTMENT OF HEALTH AND HUMAN SERVICES

Agency for Healthcare Research and Quality

Request for Planning Ideas for Development of a Health Services Research Agenda for the National Children's Study

AGENCY: Agency for Healthcare Research and Quality (AHRQ), HHS.

ACTION: Notice of Request for Ideas.

SUMMARY: AHRQ seeks recommendations on priority issues in children's health services for potential inclusion as topics of research in a planned large-scale longitudinal study of children's health outcomes. The goal of AHRQ's role in the study is to generate new knowledge that can be incorporated into practice and policy. The purpose of this announcement is to solicit broad input from clinical and social scientists, researchers, clinicians, health systems leaders and others regarding priority issues for research which could be addressed in this study. Recommendations received will be compiled and discussed at an expert workshop convened to discuss the role of health services research in this study and to plan research hypotheses and methods. This request for suggestions and the expert meeting are preparatory steps for submission of hypotheses for consideration into the National Children's Study.

DATES: Please submit comments on or before July 2, 2002.

ADDRESSES: Submissions should be brief (no more than three pages per recommendation), and may be in the form of a letter or e-mail, preferably with an electronic file in a standard word processing format on a 3½ inch floppy disk or as an e-mail attachment. Responses to this request should be submitted to: William Lawrence, M.D., Agency for Healthcare Research and Quality, 6010 Executive Blvd., Suite 300, Rockville, MD 20852, Phone: (301) 594-4040, Fax: (301) 594-3211, E-mail: wlawrence@ahrq.gov.

In order to facilitate handling of submissions, please include full information about the person submitting the recommendation: (a) Name, (b) title; (c) organization, (d) mailing address, (e) telephone number, and (f) e-mail address. Please do not use acronyms. Electronic submissions are encouraged to wlawrenc@ahrq.gov.

FOR FURTHER INFORMATION CONTACT: William Lawrence at (301) 594-4040 or at wlawrence@ahrq.gov. All responses will be available for public inspection at AHRQ's Center for Outcomes and Effectiveness Research weekdays between 8:30 a.m. and 5 p.m. Arrangements for reviewing the submissions may be made by calling (301) 594-4040.

SUPPLEMENTARY INFORMATION:

Background

The National Children's Study (NCS) represents a unique opportunity to understand the impact of health services on children's health and development within a large-scale, longitudinal study of children. This study would combine AHRQ's commitment to health services research on one of its priority populations: children, and two of its strategic goals: to support improvements in health outcomes and identify strategies to improve access, foster appropriate use, and reduce unnecessary expenditures.

Therefore, the NCS is a proposed longitudinal study of a cohort of approximately 100,000 children, following them from before birth through age 21 years old. This large-scale study seeks to examine the impact of physical, psychological, social, and economic environmental factors on children's health and development. AHRQ is seeking written suggestions as to the priority issues for research into children's health care services that should be addressed in the NCS. Issues should be considered priorities for this study if their impact has not been adequately studied in other research, if their impact can only be evaluated in a large study such as this, and if there is a large potential for impact on children's health. Supporting rationale and suggestions for research strategies should be included.

Nature of Recommendations

Suggestions should address one or more of the following:

• Age group to be studied: The nature of the proposed study will be to follow children from birth through age 21; for some of the cohort, mothers may be recruited during pregnancy or even preconception. Thus, participants will be followed in this study throughout childhood and possible before birth. However, we are seeking recommendations for specific age ranges to be studied for priority issues.

• General population or priority population to be studied: Should health services research within the NCS be focused on the needs of priority populations (as defined by AHRQ: racial and ethnic minorities, low-income populations, people living in rural areas and inner-city areas, and people living with chronic illnesses and/or disabilities), the needs of children insured through public programs, or the general pediatric population?

• General health care or specific conditions: Some research questions require specific tracer conditions (e.g., asthma, depression, etc.) to adequately study, whereas other questions may be best studies with a broad range of health services and conditions. Specific conditions studied in the NCS would need to be of sufficient prevalence or incidence that a sufficient number of children with the condition could be recruited in a population sample of 100,000 children. AHRQ seeks recommendations for priority conditions and issues in general health care, with rationale including the importance of the topic and assurance of sufficient number of children in the study to adequately study the priority issues.

• Environmental factors: For those exposures in the physical, social, and economic environment that have a detrimental effect on children's health and development, health services may have a positive effect by preventing the exposure on ameliorating the impact of the exposure on health. AHRQ seeks recommendations with rationale for priority issues concerning environmental exposures, broadly defined, in which health services may impact on the relationship between exposure and health outcomes.

• Components and structure of health services: What organizational and delivery components of child health care settings and characteristics should be examined for their impact on children's health outcomes? What specific processes should be studied? AHRQ seeks recommendations for study of a broad variety of health services, including not only care delivered in traditional inpatient and outpatient settings, but also care delivered through the community, the educational system, the juvenile justice system, and other venues. Recommendations should be given within the broad categories of mental health services, dental health services acute and chronic medical care services, services for people with disabilities, community health, prevention and anticipatory guidance, obstetric and perinatal services, and other.

• Content area of research priorities: The Institute of Medicine, in their 2001 report Crossing the Quality Chasm: A New Health System for the 21st Century, identified six critical determinants of quality of health services: safety, effectiveness, patient-centeredness, timeliness, efficiency, and equity. In addition, care can impact on children with different needs, including: staying healthy, getting better, living with illness, end of life care. The framework of quality criteria and children's needs from the health care system form a matrix within which research priorities in children's health services can be considered. AHRQ is seeking research priorities within these content areas.

• Outcomes to be measured: What are the most important child health outcomes, long and short term, for which it would be important to study the relationship with structures and processes of health care under study?

• Methodologic issues: The study of health services within the NCS must take place within the constraints of the main study design. Within these constraints, what critical design issues need to be considered in a large-scale study of health services? Example issues in this category could include: oversampling of specific populations, time points for measurement, or inclusion of nested studies. Comments on the relative advantages or disadvantages of different methodologic approaches to answering study questions in priority research areas are also welcomed. For example, which questions can be addressed with observational data and which with data from intervention studies?

• Other issues in child health care services that do not fit into the categories above.

Dated: June 14, 2002.
Carolyn M. Clancy,
Acting Director.

[FR Doc. 02-15788 Filed 6-20-02; 8:45 am]

BILLING CODE 4160-90-M